DEPARTMENT OF AGRICULTURE

Forest Service

Notice of Proposed New Fee Sites; Federal Lands Recreation Enhancement Act, (Title VIII, Pub. L. 108-447)

AGENCY: Superior National Forest, USDA Forest Service.

ACTION: Notice of Proposed New Fee Sites.

SUMMARY: The Superior National Forest is planning to charge fees at fifteen camping areas. Fees are assessed based on the level of amenities and services provided, cost of operation and maintenance, market assessment, and public comment. The fees listed are only proposed and will be determined upon further analysis and public comment. Funds from fees would be used for the continued operation and maintenance of these recreation sites.

The following fifteen camping areas (all currently free use sites) are being proposed as fee sites: Baker Lake, Toohey Lake, Fourmile Lake, Hogback Lake, Kawishiwi Lake, Section 29 Lake, Silver Island Lake, White Pine Lake, Wilson Lake, Poplar River, Whitefish Lake, Harriet, Clara Lake, Cascade River and Eighteen Lake. These camping areas have many of the same amenities offered at the more developed campgrounds on the Superior National Forest and will be priced in accordance to the amenities provided at that site. A financial analysis is being completed to determine fee rates. The proposed fee to help maintain this site would be approximately $8 per campsite per night, and $4.00 per one additional vehicle per campsite. The fee season for these camping areas would start in early to mid May coinciding with the fishing season opener and would continue to the end of the field season in late September.

DATES: New fees would be implemented May 2009.

ADDRESSES: John Wytanis, District Ranger, Tofte Ranger District, 7355 West Highway 61, Tofte, MN, 55615.

FOR FURTHER INFORMATION CONTACT: Greyling Brandt, Recreation Manager, 218-663-8084. Information about proposed fee changes can also be found on the Superior National Forest Web site: http://www.fs.fed.us/r9/forests/superior/.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation.

Dated: July 16, 2008.
John Wytanis,
District Ranger.

[FR Doc. E8-16895 Filed 7-23-08; 8:45 am]

BILLING CODE 3410-11-M